DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the program), as required by the Public Health Service (PHS) Act, as amended. While the Secretary of HHS is named as the respondent in all proceedings brought by the filing of petitions for compensation under the program, the United States Court of Federal Claims is charged by statute with responsibility for considering and acting upon the petitions.

FOR FURTHER INFORMATION CONTACT: For information about requirements for filing petitions, and the program in general, contact the Clerk, United States Court of Federal Claims, 717 Madison Place NW., Washington, DC 20005, (202) 357-6400. For information on HRSA's role in the program, contact the Director, National Vaccine Injury Compensation Program, 5600 Fishers Lane, Room 08N146B, Rockville, MD 20857; (301) 443-6593, or visit our Web site at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on February 1, 2017, through February 28, 2017. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the program.

Dated: March 28, 2017.
James Macrae,
Acting Administrator.

List of Petitions Filed

1. Susan Jennings, Warrensburg, New York, Court of Federal Claims No: 17-0153V.

2. Erik Lindholm and Lisa Lindholm on behalf of K. E. L., Brookings, South Dakota, Court of Federal Claims No: 17-0154V.

3. Jayna Litz, Reno, Nevada, Court of Federal Claims No: 17-0155V.

4. Matthew Tuckfield and Christy Tuckfield on behalf of E. T., Boston, Massachusetts, Court of Federal Claims No: 17-0156V.

5. Nancy Hass, Prosper, Texas, Court of Federal Claims No: 17-0157V.

6. Sue Weaver, Claremore, Oklahoma, Court of Federal Claims No: 17-0159V.

7. Joseph Lamonde, Moon Township, Pennsylvania, Court of Federal Claims No: 17-0160V.

8. Linda Russell, O'Fallon, Missouri, Court of Federal Claims No: 17-0161V.

9. Raymonde L. Forjette, Worcester, Massachusetts, Court of Federal Claims No: 17-0162V.

10. Betty Jenkins, Durham, North Carolina, Court of Federal Claims No: 17-0164V.

11. Andrea Morris, St. Peters, Missouri, Court of Federal Claims No: 17-0165V.

12. Jean Kaslick, Tacoma, Washington, Court of Federal Claims No: 17-0167V.

13. Patrick Hock, Port Orchard, Washington, Court of Federal Claims No: 17-0168V.

14. Wendy Borders, Parkville, Missouri, Court of Federal Claims No: 17-0169V.

15. Christi Fieselman on behalf of M. V., Phoenix, Arizona, Court of Federal Claims No: 17-0170V.

16. Ronald Sturdevant, Hornell, New York, Court of Federal Claims No: 17-0172V.

17. Alfredo Gonzalez, Springfield, Massachusetts, Court of Federal Claims No: 17-0174V.

18. Moneca Douglass, Washington, District of Columbia, Court of Federal Claims No: 17-0175V.

19. Adam Peek, Fort Meyers, Florida, Court of Federal Claims No: 17-0176V.

20. Lisa Lis, Fuquay-Varina, North Carolina, Court of Federal Claims No: 17-0178V.

21. Nicole Girardi, Hillsborough, New Jersey, Court of Federal Claims No: 17-0181V.

22. Gweyne Phillips, Hershey, Pennsylvania, Court of Federal Claims No: 17-0184V.

23. Mostafa Bousheha on behalf of Y. M. B., Greensboro, North Carolina, Court of Federal Claims No: 17-0185V.

24. Cara Peden, Friendswood, Texas, Court of Federal Claims No: 17-0186V.

25. Dennis Pickens, Phoenix, Arizona, Court of Federal Claims No: 17-0187V.

26. Joyce Keenan, Peabody, Massachusetts, Court of Federal Claims No: 17-0189V.

27. Amber McAteer, Pittsburgh, Pennsylvania, Court of Federal Claims No: 17-0190V.

28. Janet Clawson, Durango, Colorado, Court of Federal Claims No: 17-0191V.

29. Priscilla Gonzalez on behalf of A. W., Chicopee, Massachusetts, Court of Federal Claims No: 17-0192V.

30. Brandi Kostal, Norfolk, Virginia, Court of Federal Claims No: 17-0193V.

31. Susan Hargrafen, Beverly Hills, California, Court of Federal Claims No: 17-0195V.

32. Claire LaPier, Plattsburgh, New York, Court of Federal Claims No: 17-0196V.

33. Ryan Leong, Modesto, California, Court of Federal Claims No: 17-0197V.

34. Alice Odom, Florissant, Missouri, Court of Federal Claims No: 17-0198V.

35. Margaret Stephen, Roswell, Georgia, Court of Federal Claims No: 17-0199V.

36. Bonnie Gambardella, Bethlehem, Pennsylvania, Court of Federal Claims No: 17-0201V.

37. Rebecca Hill, Green Bay, Wisconsin, Court of Federal Claims No: 17-0202V.

38. Mary Petty on behalf of L. P., Strongsville, Ohio, Court of Federal Claims No: 17-0203V.

39. Doris Foley, Wakefield, Rhode Island, Court of Federal Claims No: 17-0208V.

40. Peter Long, Wellesley Hills, Massachusetts, Court of Federal Claims No: 17-0209V.

41. Chirag Palsana, Sarasota, Florida, Court of Federal Claims No: 17-0214V.

42. Michaela Balasco and Steven Balasco on behalf of J. B., Barrington, Rhode Island, Court of Federal Claims No: 17-0215V.

43. Ralph LaGamma, Glen Rock, New Jersey, Court of Federal Claims No: 17-0219V.

44. Joelle Chilazi and Claire Chilazi on behalf of Zakaria Chilazi, Deceased, Woodland Park, New Jersey, Court of Federal Claims No: 17-0221V.

45. Dominique Lewis on behalf of Jacqueline Lewis, Deceased, Lynchburg, Virginia, Court of Federal Claims No: 17-0224V.

46. Nathalie Collado, Staten Island, New York, Court of Federal Claims No: 17-0225V.

47. Lisa LeBeau, Gulfport, Mississippi, Court of Federal Claims No: 17-0226V.

48. Eric LaPierre, Aliso Viejo, California, Court of Federal Claims No: 17-0227V.

49. Kesha Phelps, Edenton, North Carolina, Court of Federal Claims No: 17-0229V.

50. Candace M. Berlin, Lakeland, Florida, Court of Federal Claims No: 17-0230V.

51. David Suarez, Westbury, Connecticut, Court of Federal Claims No: 17-0231V.

52. Pauline Hardy, Norfolk, Virginia, Court of Federal Claims No: 17-0232V.

53. Destanie Hargrove on behalf of A. F. M., Henderson, Kentucky, Court of Federal Claims No: 17-0233V.

54. Marie Francis, Philadelphia, Pennsylvania, Court of Federal Claims No: 17-0234V.

55. Matthew Rodela and Cassandra Rodela on behalf of Violet Skye Rodela, Deceased, Foothill Ranch, California, Court of Federal Claims No: 17-0236V.

56. Sonya Bowen, Bronx, New York, Court of Federal Claims No: 17-0238V.

57. Sarah Walley, Sonora, California, Court of Federal Claims No: 17-0240V.

58. Kimberly Bergin on behalf of P. B., Matthews, North Carolina, Court of Federal Claims No: 17-0241V.

59. Stephen Acker, Madison, Wisconsin, Court of Federal Claims No: 17-0242V.

60. Aron Beraki, Texas City, Texas, Court of Federal Claims No: 17-0243V.

61. Laura Roetgerman, Minster, Ohio, Court of Federal Claims No: 17-0244V.

62. Martha Boone, Westerville, Ohio, Court of Federal Claims No: 17-0245V.

63. Amy Booth, Memphis, Tennessee, Court of Federal Claims No: 17-0246V.

64. Emory Newsome, Tampa, Florida, Court of Federal Claims No: 17-0247V.

65. Carl J. Colopietro, Rochester, New York, Court of Federal Claims No: 17-0249V.

66. Neona Martin on behalf of Joseph James Martin, Deceased, Huntsville, Alabama, Court of Federal Claims No: 17-0250V.

67. Debra D. Moore, Wichita Falls, Texas, Court of Federal Claims No: 17-0251V.

68. Jeffrey Faulk, Birmingham, Alabama, Court of Federal Claims No: 17-0252V.

69. Annie Brown, Montgomery, Alabama, Court of Federal Claims No: 17-0253V.

70. William LaHera, Troy, New York, Court of Federal Claims No: 17-0254V.

71. Sylvester Williams, Nashville, North Carolina, Court of Federal Claims No: 17-0255V.

72. Christine Coglaiti, Katy, Texas, Court of Federal Claims No: 17-0257V.

73. Dionne Edwards on behalf of J. M. E., Birmingham, Alabama, Court of Federal Claims No: 17-0258V.

74. Heather Goff, Phoenix, Arizona, Court of Federal Claims No: 17-0259V.

75. Ronald Culberson, Montgomery, Alabama, Court of Federal Claims No: 17-0260V.

76. Judith Bruegging, Dresher, Pennsylvania, Court of Federal Claims No: 17-0261V.

77. Sherry Briggs, Louisville, Kentucky, Court of Federal Claims No: 17-0262V.

78. Michele Carusotto, Boston, Massachusetts, Court of Federal Claims No: 17-0263V.

79. Sharon Cain, Cordova, Tennessee, Court of Federal Claims No: 17-0264V.

80. Lizette Stillabower on behalf of A. H., Houston, Texas, Court of Federal Claims No: 17-0265V.

81. Emily Dickson, Dresher, Pennsylvania, Court of Federal Claims No: 17-0267V.

82. Charles A. Hightower, Janesville, Wisconsin, Court of Federal Claims No: 17-0268V.

83. Jeanne Hendrickson on behalf of E. H., New Haven, Connecticut, Court of Federal Claims No: 17-0269V.

84. Jennifer Lugo on behalf of K. L., La Crosse, Wisconsin, Court of Federal Claims No: 17-0270V.

85. Janice Bacon, Boston, Massachusetts, Court of Federal Claims No: 17-0271V.

86. Mary M. Hubbell, Shelbyville, Indiana, Court of Federal Claims No: 17-0272V.

87. Vincent Anderson, Los Angeles, California, Court of Federal Claims No: 17-0273V.

88. Patricia Millender on behalf of J. R., Greensboro, North Carolina, Court of Federal Claims No: 17-0274V.

89. Paul Goodman, Kahului, Hawaii, Court of Federal Claims No: 17-0275V.

90. Christine Smith, Lackawanna, New York, Court of Federal Claims No: 17-0276V.

91. Desiree Danger, Dallas, Texas, Court of Federal Claims No: 17-0278V.

92. Cheryl Gill, Dresher, Pennsylvania, Court of Federal Claims No: 17-0280V.

93. Brittany K. Brown, Colonial Heights, Virginia, Court of Federal Claims No: 17-0281V.

94. Marla Kramer, Dresher, Pennsylvania, Court of Federal Claims No: 17-0283V.

95. Jennifer M. Warkoczewski, Dresher, Pennsylvania, Court of Federal Claims No: 17-0284V.

96. Angel Dandrea, Dresher, Pennsylvania, Court of Federal Claims No: 17-0285V.

97. Kris Aley, Beverly Hills, California, Court of Federal Claims No: 17-0286V.

[FR Doc. 2017-06499 Filed 3-31-17; 8:45 am]

BILLING CODE 4165-15-P